ENVIRONMENTAL PROTECTION AGENCY

40 CFR Part 2

[FRL-9733-8]

Clean Water Act; Contractor Access to Confidential Business Information

AGENCY: Environmental Protection Agency (EPA).

ACTION: Notice of intended transfer of confidential business information to contractor, subcontractors, and consultants.

SUMMARY: The Environmental Protection Agency's (EPA's) Office of Water's (OW's) Office of Science and Technology (OST) has authorized Eastern Research Group (ERG), its subcontractors, and its consultants to access confidential business information (CBI) collected from numerous industries. Transfer of this information is necessary for ERG to assist the Office of Water in the preparation of effluent guidelines and standards for certain industries.

We have determined that the contractors listed below require access to CBI submitted to us under Section 308 of the Clean Water Act and in connection with various programs and are providing notice and an opportunity to comment. The nature of the work and its necessity, and the type of access granted, is described below for each contractor. Information has been provided to this contractor under a previous agreement since September 26, 2002.

Transfer of the information to ERG will allow the contractor and subcontractors to support EPA in the planning, development, and review of effluent limitations guidelines and standards under the Clean Water Act (CWA). The information being transferred was or will be collected under the authority of section 308 of the CWA. Some information being transferred from the pulp, paper, and paperboard industry was collected under the additional authorities of section 114 of the Clean Air Act (CAA) and section 3007 of the Resource Conservation and Recovery Act (RCRA). Interested persons may submit comments on this intended transfer of information to the address noted below.

DATES: Comments on the transfer of data are due October 15, 2012.

ADDRESSES: Comments may be sent to Mr. M. Ahmar Siddiqui, Document Control Officer, Engineering and Analysis Division (4303T), Room 6231S EPA West, U.S. EPA, 1200 Pennsylvania Ave. NW., Washington, DC 20460.

FOR FURTHER INFORMATION CONTACT: Mr. M. Ahmar Siddiqui, Document Control Officer, at (202) 566-1044, or via email at siddiqui.ahmar@epa.gov.

SUPPLEMENTARY INFORMATION: In accordance with 40 CFR 2.302(h), EPA has transferred CBI to various contractors and subcontractors over the history of the effluent guidelines program. EPA determined that this transfer was necessary to enable the contractors and subcontractors to perform their work in supporting EPA in planning, developing, and reviewing effluent guidelines and standards for certain industries.

Today, EPA is giving notice that it has entered into a contract with ERG, contract number EP-C-12-021, located in Chantilly, Virginia. The purpose of this contract is to secure technical and engineering analysis support for EPA in its development, review, implementation, and defense of water-related initiatives for a variety of industries. To obtain assistance in responding to this contract, ERG has entered into contracts with the following subcontractors: Advanced Environmental Management Group, LLC (AEM, located in Plymouth, Michigan), Aqua Terra Consultants (located in Mountain View, California), Avanti Corporation (located in Alexandria, Virginia), Great Lakes Environmental Center (GLEC, located in Traverse City, Michigan), and Mabbett & Associates (located in Bedford, Massachusetts), PG Environmental, LLC (located in Herndon, Virginia), Bill Kennedy, Orion Engineering (located in Charlotte, NC), John H. Martin, Hall Associates (located in Georgetown, DE), and John P. Martin, JPMartin Energy Strategy, LLC (located in Saratoga Springs, New York).

All EPA contractor, subcontractor, and consultant personnel are bound by the requirements and sanctions contained in their contracts with EPA and in EPA's confidentiality regulations found at 40 CFR part 2, Subpart B. ERG will adhere to EPA-approved security plans which describe procedures to protect CBI. ERG will apply the procedures in these plans to CBI previously gathered by EPA and to CBI that may be gathered in the future. The security plans specify that contractor personnel are required to sign non-disclosure agreements and are briefed on appropriate security procedures before they are permitted access to CBI. No person is automatically granted access to CBI: A need to know must exist.

The information that will be transferred to ERG consists of information previously collected by EPA to support the development and review of effluent limitations guidelines and standards under the CWA. In particular, information, including CBI, collected for the planning, development, and review of effluent limitations guidelines and standards for the following industries may be transferred: Airport deicing; aquaculture; centralized waste treatment; coal bed methane; concentrated animal feeding operations; coal mining; construction and development; drinking water treatment; industrial container and drum cleaning; industrial laundries; industrial waste combustors; iron and steel manufacturing; landfills; meat and poultry products; metal finishing; metal products and machinery; nonferrous metals manufacturing; oil and gas extraction (including coalbed methane); ore mining and dressing; organic chemicals, plastics, and synthetic fibers; pesticide chemicals; petroleum refining; pharmaceutical manufacturing; pulp, paper, and paperboard manufacturing; shale gas extraction; steam electric power generation; textile mills; timber products processing; tobacco; and transportation equipment cleaning.

EPA also intends to transfer to ERG all information listed in this notice, of the type described above (including CBI) that may be collected in the future under the authority of section 308 of the CWA or voluntarily submitted (e.g., in comments in response to a Federal Register notice), as is necessary to enable ERG to carry out the work required by its contract to support EPA's effluent guidelines planning process and the development of effluent limitations guidelines and standards.

Dated: September 18, 2012.
Jeffrey L. Lape,
Acting Director, Office of Science and Technology.

[FR Doc. 2012-23519 Filed 10-4-12; 8:45 am]

BILLING CODE 6560-50-P